DEPARTMENT OF TRANSPORTATION

National Highway Traffic Safety Administration

[Docket No. NHTSA-2018-0003; Notice 1]

Forest River, Inc., Receipt of Petition for Decision of Inconsequential Noncompliance

AGENCY: National Highway Traffic Safety Administration (NHTSA), Department of Transportation (DOT).

ACTION: Receipt of petition.

SUMMARY: Forest River, Inc. (Forest River), has determined that certain model year (MY) 2017-2018 Forest River buses and school buses do not fully comply with Federal Motor Vehicle Safety Standard (FMVSS) No. 205, Glazing Materials. Forest River filed two separate noncompliance reports, both dated November 30, 2017. Forest River then petitioned NHTSA on December 12, 2017, for a decision that the subject noncompliance is inconsequential as it relates to motor vehicle safety.

DATES: The closing date for comments on the petition is May 16, 2018.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE, Washington, DC 20590.

• Hand Delivery: Deliver comments by hand to U.S. Department of Transportation, Docket Operations, M-30, West Building Ground Floor, Room W12-140, 1200 New Jersey Avenue SE, Washington, DC 20590. The Docket Section is open on weekdays from 10 a.m. to 5 p.m. except Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION: I. Overview: Forest River has determined that certain MY 2017-2018 Forest River buses and school buses do not fully comply with FMVSS No. 205, Glazing Materials (49 CFR 571.205). Forest River filed two separate noncompliance reports, both dated November 30, 2017, pursuant to 49 CFR part 573, Defect and Noncompliance Responsibility and Reports. Forest River then petitioned NHTSA on December 12, 2017, pursuant to 49 U.S.C. 30118(d) and 30120(h) and 49 CFR part 556, for an exemption from the notification and remedy requirements of 49 U.S.C. Chapter 301 on the basis that this noncompliance is inconsequential as it relates to motor vehicle safety.

This notice of receipt of Forest River's petition is published under 49 U.S.C. 30118 and 30120 and does not represent any agency decision or other exercise of judgment concerning the merits of the petition.

II. Buses Involved: Approximately 544 MY 2017-2018 Forest River school buses and approximately 2,121 MY 2017-2018 Forest River buses, manufactured between June 26, 2017, and November 10, 2017, are potentially involved. The following Forest River buses are involved:

School Buses

• Starcraft Allstar XL, Quest XL and Prodigy

Buses

• Starcraft Allstar XL, Allstar, Starlite, XLT, Starquest, and Allstar MVP

• Startrans President, PS2, Senator, Senator II, Candidate, and Candidate II

• Glaval Apollo, Commute, Concorde II, Entourage, Legacy, Primetime, Sport, Titan II, Titan II LF and Universal

• Elkhart Coach ECII

III. Noncompliance: Forest River explains that the noncompliance is that the subject buses were equipped with curbside entry door glass that does not fully comply with paragraph S6 of FMVSS No. 205. Specifically, the curbside entry door glass has the AS3 privacy glazing marking when it should have been marked with the AS2 solar glazing marking.

IV. Rule Requirements: Paragraphs S6, S6.1(a)(b), S6.2, and S6.3(a)(b) of FMVSS No. 205 include the requirements relevant to this petition:

• A Prime glazing material manufacturer must certify, in accordance with 49 U.S.C. 30115, each piece of glazing material to which this standard applies is designed as:

A. A component of any specific motor vehicle or camper; or

B. to be cut into components for use in motor vehicles or items of motor vehicle equipment.

• A prime glazing manufacturer certifies its glazing by adding to the marks required by section 7 of ANSI/SAE Z26.1-1996, in letters and numerals of the same size, the symbol “DOT” and a manufacturer's code mark that NHTSA assigns to the manufacturer.

• NHTSA will assign a code mark to a manufacturer after the manufacturer submits a written request to the Office of Vehicle Safety Compliance, National Highway Traffic Safety Administration. The request must include the company name, address, and a statement from the manufacturer certifying its status as a prime glazing manufacturer as defined in paragraph S4.

• A manufacturer or distributor who cuts a section of glazing material to which this standard applies, for use in a motor vehicle or camper, must:

A. Mark that material in accordance with section 7 of ANSI/SAE Z26.1-1996; and

B. certify that its product complies with this standard in accordance with 49 U.S.C. 30115.

V. Summary of Forest River's Petition: Forest River described the subject noncompliance and stated its belief that the noncompliance is inconsequential as it relates to motor vehicle safety.

In support of its petition, Forest River submitted the following reasoning:

1. As an initial matter, the noncompliance does not present a safety risk because it has no effect on the structure, performance, or safety of the glass. That is, the noncompliance relates solely to the glass' markings, specifically the use of the marking “AS3,” instead of “AS2.”

2. The glass required for the subject buses and school buses must meet the requirements of ANSI 26.1-1996 AS2. Forest River requested that a sample of the glass be tested to ensure its compliance with all applicable standards. The test results have affirmed that the glass indeed meets ANSI 26.1-1996 AS2's requirements and is compliant for the designed position in which it is applied.

3. Forest River is enclosing copies of statements from the glass manufacturer Cleer Vision, and test data confirming the glass' compliance with ANSI and FMVSS No. 205's performance standards.

4. Forest River stated that the agency has previously granted numerous petitions for determinations of inconsequential noncompliance in regard to FMVSS No. 205, including petitions involving mismarkings similar to the instant matter. See the following recent examples:

a. Mitsubishi Motors North America, Inc. Petition, 80 FR 72482 (November 19, 2015) (involving rear door windows marked with the model number “M66” instead of the correct “M131”);

b. Custom Glass Solutions Upper Sandusky Corporation Petition, 79 FR 49833 (January 23, 2015) (involving laminated glass panes mistakenly marked as “tempered” and with the incorrect manufacturer's DOT number, model number, and manufacturer's trademark).

c. Mitsubishi Motors North America, Inc. Petition, 79 FR 49833 (August 22, 2014) (involving rear door windows marked with the model number “M13l” instead of the correct “M129”);

d. General Motors LLC Petition, 79 FR 23402 (April 28, 2014) (involving quarter windows marked as “AS2” instead of the correct “AS3”).

Forest River concluded by expressing the belief that the subject noncompliance is inconsequential as it relates to motor vehicle safety, and that its petition to be exempted from providing notification of the noncompliance, as required by 49 U.S.C. 30118, and a remedy for the noncompliance, as required by 49 U.S.C. 30120, should be granted.

Forest River's complete petition and all supporting documents are available by logging onto the Federal Docket Management System (FDMS) website at: https://www.regulations.gov and following the online search instructions to locate the docket number listed in the title of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject buses that Forest River no longer controlled at the time it determined that the noncompliance existed. However, any decision on this petition does not relieve vehicle distributors and dealers of the prohibitions on the sale, offer for sale, or introduction or delivery for introduction into interstate commerce of the noncompliant buses under their control after Forest River notified them that the subject noncompliance existed.

Authority: 49 U.S.C. 30118, 30120: delegations of authority at 49 CFR 1.95 and 501.8.

Claudia W. Covell,
Acting Director, Office of Vehicle Safety Compliance.

[FR Doc. 2018-07828 Filed 4-13-18; 8:45 am]

BILLING CODE 4910-59-P